DEPARTMENT OF COMMERCE

National Oceanic and Atmospheric Administration

RIN 0648-XF086

Atlantic Highly Migratory Species; Exempted Fishing Permits; Extension of Public Comment Period

AGENCY: National Marine Fisheries Service (NMFS), National Oceanic and Atmospheric Administration (NOAA), Commerce.

ACTION: Notice of receipt of an application for an exempted fishing permit; extension of comment period; and announcement of a public webinar.

SUMMARY: NMFS published a notice in the Federal Register on January 17, 2017, announcing the receipt of an application for an exempted fishing permit (EFP) from Dr. David Kerstetter of Nova Southeastern University to evaluate pelagic longline (PLL) catch and bycatch rates from within the northern portion of the East Florida Coast (EFC) PLL Closed Area and compare those rates to rates from outside the EFC PLL Closed Area. The availability of a Draft Environmental Assessment (EA) analyzing the impacts of granting the application with certain terms and conditions was also announced in the same Federal Register notice. NMFS provided a 30-day comment period in the January Federal Register notice, but given interest from the public, NMFS is extending the comment period for the action to March 29, 2017, and conducting a public webinar on March 27, 2017, to facilitate public comments.

DATES: The public comment period for the notice published at 82 FR 4856, January 17, 2017, is extended from February 16, 2017, until March 29, 2017.

ADDRESSES: Comments may be submitted by any of the following methods:

• Email: nmfs.hms.pllefp@noaa.gov. Include in the subject line the following identifier: 0648-XF086.

• Mail: Margo Schulze-Haugen, Highly Migratory Species Management Division (F/SF1), NMFS, 1315 East-West Highway, Silver Spring, MD 20910.

FOR FURTHER INFORMATION CONTACT: Craig Cockrell at (301) 427-8503 or Rick Pearson at (727) 824-5399.

SUPPLEMENTARY INFORMATION:

Background

The application and Draft EA, as well as public comments received thus far, are available for review on the HMS Management Division's Web site at http://www.nmfs.noaa.gov/sfa/hms/compliance/efp/index.html. NMFS invites comments on the specific terms and conditions of the EFP, if issued, and the analyses presented in the Draft EA.

Extension of Comment Period

The original comment period was scheduled to end on February 16, 2017. Given interest from the public and to allow additional time for Regional Fishery Management Councils to discuss the EFP application and Draft EA at upcoming meetings, NMFS is extending the public comment period for this action to March 29, 2017. Additionally, because of requests to hold a public meeting in South Florida regarding this issue, NMFS has decided to hold a public webinar to facilitate public comments from across the geographic range of the U.S. Atlantic PLL fishery.

Public Webinar

The public webinar will be held on March 27, 2017, from 1 p.m.-4 p.m. EST. Information on how to attend the webinar can be found on the HMS Management Division's Web page at: http://www.nmfs.noaa.gov/sfa/hms/compliance/efp/pll_efp_webinar.html.

Authority: 16 U.S.C. 971 et seq. and 16 U.S.C. 1801 et seq.

Dated: February 9, 2017.
Karen H. Abrams,
Acting Deputy Director, Office of Sustainable Fisheries, National Marine Fisheries Service.

[FR Doc. 2017-03010 Filed 2-14-17; 8:45 am]

BILLING CODE 3510-22-P